DEPARTMENT OF HEALTH AND HUMAN SERVICES

National Institutes of Health

National Institute of Biomedical Imaging and Bioengineering; Amended Notice of Meeting

Notice is hereby given of a change in the meeting of the National Advisory Council for Biomedical Imaging and Bioengineering, January 23, 2024, 12 p.m. to January 23, 2024, 04 p.m., National Institutes of Health, Democracy II, 6707 Democracy Boulevard, Bethesda, MD 20892 which was published in the Federal Register on October 25, 2023, 88FR69211.

There is a time change for the National Advisory Council for Biomedical Imaging and Bioengineering meeting on January 23, 2024. The Open Session of the Council meeting will begin at 11:00 a.m. and conclude at 2:00 p.m. on January 23, 2024. The meeting is partially Closed to the public.

Dated: December 18, 2023.
Victoria E. Townsend,
Program Analyst, Office of Federal Advisory Committee Policy.

[FR Doc. 2023-28123 Filed 12-20-23; 8:45 am]

BILLING CODE 4140-01-P